ENVIRONMENTAL PROTECTION AGENCY

[EPA-HQ-OPP-2006-0661; FRL-8111-4]

Chloropicrin Risk Assessments (Phase 3 of 6-Phase Process); Notice of Availability; Extension of Comment Period

AGENCY: Environmental Protection Agency (EPA).

ACTION: Notice; extension of comment period.

SUMMARY: EPA issued a notice in the Federal Register of November 29, 2006 (71 FR 69112) (FRL-8087-4), concerning the availability of the risk assessments for the fumigant pesticide chloropicrin. This document announces EPA's decision to extend the comment period for 30 days, February 23, 2007.

DATES: Comments, identified by docket identification (ID) number EPA-HQ-OPP-2006-0661 must be received on or before February 23, 2007.

ADDRESSES: Follow the detailed instructions as provided under ADDRESSES in the Federal Register of November 29, 2006.

FOR FURTHER INFORMATION CONTACT: Nathan Mottl, Special Review and Reregistration Division (7508P), Office of Pesticide Programs, Environmental Protection Agency, 1200 Pennsylvania Ave., NW., Washington, DC 20460-0001; telephone number: (703) 305-0208; e-mail address: mottl.nathan@epa.gov.

SUPPLEMENTARY INFORMATION:

I. General Information

A. Does this Action Apply to Me?

The Agency included in the notice a list of those who may be potentially affected by this action. If you have questions regarding the applicability of this action to a particular entity, consult the person listed under FOR FURTHER INFORMATION CONTACT.

B. What Should I Consider as I Prepare My Comments for EPA?

1. Submitting Confidential Business Information (CBI). Do not submit this information to EPA through regulations.gov or e-mail. Clearly mark the part or all of the information that you claim to be CBI. For CBI information in a disk or CD ROM that you mail to EPA, mark the outside of the disk or CD ROM as CBI and then identify electronically within the disk or CD ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

C. How and to Whom Do I Submit Comments?

To submit comments, or access the official public docket, please follow the detailed instructions as provided in the SUPPLEMENTARY INFORMATION of the November 29, 2006 Federal Register document. If you have questions, consult the person listed under FOR FURTHER INFORMATION CONTACT.

II. What Action is EPA Taking?

This document announces EPA's decision to extend the public comment period for the fumigant pesticide chloropicrin established in the Federal Register of November 29, 2006. In that document, EPA announced the availability of the risk assessments for chloropicrin. EPA is hereby extending the comment period, which was set to end on February 23, 2007.

III. What is the Agency's Authority for Taking this Action?

Section 4(g)(2) of Federal Insecticide, Fungicide, and Rodenticide Act (FIFRA), as amended, directs that, after submission of all data concerning a pesticide active ingredient, the Administrator shall determine whether pesticides containing such active ingredient are eligible for reregistration. Further provisions are made to allow a public comment period. However, the Administrator may extend the comment period, if additional time for comment is requested. In this case, Chloropicrin Manufacturers Task Force and the Crop Protection Coalition, have requested additional time (60 days and 45 days, respectively) to develop comments. The Agency believes that an additional 30 days is adequate.

List of Subjects

Environmental protection, Fumigants, Pesticides and pests.

Dated: January 12, 2007.
Debra Edwards,
Director, Special Review and Reregistration Division, Office of Pesticide Programs.

[FR Doc. E7-984 Filed 1-23-07; 8:45 am]

BILLING CODE 6560-50-S